FEDERAL COMMUNICATIONS COMMISSION

47 CFR Part 73

[DA No. 00-1674; MM Docket No. 99-144; RM-9538, RM-9747 & RM-9748]

Radio Broadcasting Services; Arcadia, Gibsland & Hodge, LA & Wake Village, TX

AGENCY: Federal Communications Commission.

ACTION: Final rule.

SUMMARY: Houston Christian Broadcasters, Inc. (“HCBI”) proposed the substitution of Channel 223C3 for Channel 223A at Wake Village, and modification of the license for Station KHTA and substitution of Channel 231C3 for Channel 223A at Arcadia, LA. See 64 FR 26720, May 17, 1999. On June 28, 2000, HCBI withdrew its interest in Channel 223C3 at Wake Village and Channel 231C3 at Arcadia. Therefore, the petition has been dismissed, as requested, with no action taken with regard to HCBI's proposed substitutions at Wake Village and Arcadia. In response to counterproposals filed for Gibsland, LA, Hodge, LA and expressions of interest for the use of Channel 231C3 at Arcadia, LA, we have compared the proposals and allotted Channel 231C2 to Hodge, LA as a first local service. The coordinates for Channel 231C2 at Hodge, LA are 32-08-20 and 92-59-04. A filing window for Channel 231C2 at Hodge will not be opened at this time. Instead, the issue of opening a filing window for this channel will be addressed by the Commission in a subsequent order.

DATES: Effective September 11, 2000.

ADDRESSES: Federal Communications Commission, Washington, D.C. 20554.

FOR FURTHER INFORMATION CONTACT: Kathleen Scheuerle, Mass Media Bureau, (202) 418-2180

SUPPLEMENTARY INFORMATION: This is a summary of the Commission's Report and Order, MM Docket No. 99-144, adopted July 19, 2000, and released July 28, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Louisiana, is amended by adding Hodge, Channel 231C2.

Federal Communications Commission.
John A. Karousos,
Chief, Allocations Branch, Policy and Rules Division, Mass Media Bureau.

[FR Doc. 00-20879 Filed 8-16-00; 8:45 am]

BILLING CODE 6712-01-P